DEPARTMENT OF THE INTERIOR

Bureau of Land Management

[LLORV00000.L10200000.DD0000; HAG 10-0316]

Meeting; Southeast Oregon Resource Advisory Council

AGENCY: Bureau of Land Management, Interior.

ACTION: Southeast Oregon Resource Advisory Council.

SUMMARY: Pursuant to the Federal Land Policy and Management Act and the Federal Advisory Committee Act, the U.S. Department of the Interior, Bureau of Land Management (BLM) Southeast Oregon Resource Advisory Council (SEORAC) will meet as indicated below:

DATES: The SEORAC field trip will begin at 10 a.m. p.d.t. on August 2, 2010. The SEORAC business meeting will begin 8 a.m. p.d.t. on August 3, 2010.

ADDRESSES: The field trip will meet at the Burns District Office, 28910 Highway 20 West, Hines, Oregon 97738 at the above time. The business meeting will meet at the Harney County Community Center Conference Room, 484 Broadway, Burns, Oregon 97720.

FOR FURTHER INFORMATION CONTACT: Mark Wilkening, 100 Oregon Street, Vale, Oregon 97918, (541) 473-6218 or e-mail mark_wilkening@blm.gov.

SUPPLEMENTARY INFORMATION: The business meeting will take place on August 3, 2010 at the Harney County Community Center Conference Room, 484 Broadway, Burns Oregon, from 8 a.m. to 4 p.m. The meeting may include such topics as update on wild horses & burros, updates on Lakeview and Southeast Oregon Resource Management Plans, the NEPA process, litigation updates, update on the melding of Sage-grouse opportunity map with the State of Oregon version, subgroup reports, and other matters as may reasonably come before the council. The public is welcome to attend all portions of the meeting and may make oral comments to the Council at 1 p.m. on August 3, 2010. Those who verbally address the SEORAC are asked to provide a written statement of their comments or presentation. Unless otherwise approved by the SEORAC Chair, the public comment period will last no longer than 15 minutes, and each speaker may address the SEORAC for a maximum of five minutes. If reasonable accommodation is required, please contact the BLM Vale District Office at (541) 473-6213 as soon as possible.

Donald N. Gonzalez,
Vale District Manager.

[FR Doc. 2010-16872 Filed 7-9-10; 8:45 am]

BILLING CODE 4310-33-P